ENVIRONMENTAL PROTECTION AGENCY

40 CFR Part 52

[PA158-4206a; FRL-7504-6]

Approval and Promulgation of Air Quality Implementation Plans; Pennsylvania; Removal of Alternative Emission Reduction Limitations

AGENCY: Environmental Protection Agency (EPA).

ACTION: Direct final rule.

SUMMARY: EPA is taking direct final action on revisions to the Commonwealth of Pennsylvania State Implementation Plan (SIP) submitted by the Pennsylvania Department of Environmental Protection (PADEP). The revision removes alternative emission reduction limitations for air contaminant sources at eight facilities. EPA is approving these revisions to the SIP in accordance with the requirements of the Clean Air Act (CAA).

DATES: This rule is effective on August 4, 2003, without further notice, unless EPA receives adverse written comment by July 3, 2003. If EPA receives such comments, it will publish a timely withdrawal of the direct final rule in the Federal Register and inform the public that the rule will not take effect.

ADDRESSES: Written comments should be addressed to Makeba Morris, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103.

FOR FURTHER INFORMATION CONTACT: Kathleen Anderson, (215) 814-2173, or by e-mail at anderson.kathleen@epa.gov.

SUPPLEMENTARY INFORMATION:

I. Background

On March 6, 2000, the Commonwealth of Pennsylvania submitted a formal revision to its State Implementation Plan (SIP). The SIP revision consists of the removal of alternative emission reduction limitations for the facilities and pollutants listed in Table 1. Public hearings were held on July 28, July 30 and August 5, 1997. The final rule removing the alternative emission reduction limitations became effective on October 19, 1999.

II. Summary of SIP Revision

As part of the Commonwealth's Regulatory Basics Initiative, the PADEP was required to review existing regulations and identify those that were, among other things, obsolete or no longer necessary. As a result of this initiative, PADEP identified certain regulations for source specific alternative emission reduction limitations, codified in title 25, chapter 128 of the Commonwealth's regulations, as no longer necessary due to changes in processes, equipment or the closing of the affected facility. Chapter 128 allows sources to submit proposals to implement an alternative emission reduction option for existing sources known as the “bubble” policy. The specific alternative emission reduction limitations to be removed from the Commonwealth's SIP, including the names of the affected sources and pollutants, are listed in Table 1.

Table 1.—List of Affected Alternative Emission Reduction Limitations
Name of facility | PADEP citation | Pollutant | 40 CFR part 52 citation
Andre Greenhouses, Inc., Southampton | § 128.11 | SO2 | 52.2020(c)(35)
Andre Greenhouses, Inc., Doylestown | § 128.12 | SO2 | 52.2020(c)(35)
Andre Greenhouses, Inc., Wyndmoor | § 128.13 | SO2 | 52.2020(c)(35)
U.S. Steel Corp., Fairless Hills | § 128.15 | SO2 | 52.2020(c)(55)
U.S. Steel Corp., Fairless Hills | § 128.16 | Particulate Matter | 52.2020(c)(51)
Scott Paper Co., Chester | § 128.17 | SO2 | 52.2020(c)(54)
Arbogast & Bastian, Inc., Allentown | § 128.18 | SO2 | 52.2020(c)(54)
J.H. Thompson, Inc., Kennett Square | § 128.19 | SO2 | 52.2020(c)(54)
Bethlehem Steel Corp., Bethlehem | § 128.20 | Particulate Matter | 52.2020(c)(52)

III. Final Action

EPA is approving as a revision to the Pennsylvania SIP the removal of alternative emission reduction limitations, codified under 25 PA Code section 128, for eight facilities.

EPA is publishing this rule without prior proposal because the Agency views this as a noncontroversial amendment and anticipates no adverse comment. However, in the “Proposed Rules” section of today's Federal Register, EPA is publishing a separate document that will serve as the proposal to approve the SIP revision if adverse comments are filed. This rule will be effective on August 4, 2003, without further notice unless EPA receives adverse comment by July 3, 2003. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action to remove eight alternative emission reduction limitations from the Pennsylvania SIP must be filed in the United States Court of Appeals for the appropriate circuit by August 4, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Sulfur oxides.

Dated: May 20, 2003.
Abraham Ferdas,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraphs (c)(204) to read as follows:

§ 52.2020 Identification of plan.

* * * * *

(c) * * *(204 ) Revisions to the Pennsylvania Regulations to remove alternative emission reduction limitations for Andre Greenhouses, U.S. Steel, Scott Paper Company, Arbogast & Bastian, Inc., J.H. Thompson, Inc., and Bethlehem Steel Corp., submitted on March 6, 2000 by the Pennsylvania Department of Environmental Protection.

(i) Incorporation by reference.

(A) Letter of March 6, 2000 from the Pennsylvania Department of Environmental Protection transmitting the removal of 25 Pennsylvania Code Subpart C, Article II, Chapter 128.11 through 128.13 and 128.15 through 128.20, the alternative emission reduction limitations for Andre Greenhouses, U.S. Steel, Scott Paper Company, Arbogast & Bastian, Inc., J.H. Thompson, Inc., and Bethlehem Steel Corporation, respectively.

(B) Removal of 25 Pennsylvania Code Subpart C, Article II, Chapter 128.11 through 128.13 and 128.15 through 128.20, effective September 5, 1998.

(ii) Remainder of State submittal pertaining to the revisions listed in paragraph (c)(204)(i) of this section.

[FR Doc. 03-13711 Filed 6-2-03; 8:45 am]

BILLING CODE 6560-50-P